OFFICE OF MANAGEMENT AND BUDGET

Office of Federal Procurement Policy

DEPARTMENT OF DEFENSE

GENERAL SERVICES ADMINISTRATION

NATIONAL AERONAUTICS AND SPACE ADMINISTRATION

[OMB Control No. 9000-0184; Docket No. FAR-2025-0053; Sequence No. 10]

Submission for OMB Review; Contractors Performing Private Security Functions Outside the United States

AGENCY: Office of Federal Procurement Policy (OFPP), Office of Management and Budget (OMB); Department of Defense (DOD); General Services Administration (GSA); and National Aeronautics and Space Administration (NASA).

ACTION: Notice.

SUMMARY: Under the provisions of the Paperwork Reduction Act, the Regulatory Secretariat Division has submitted to OMB a request to review and approve an extension of a previously approved information collection requirement regarding contractors performing private security functions outside the United States.

DATES: Submit comments on or before August 4, 2025.

ADDRESSES: Written comments and recommendations for this information collection should be sent within 30 days of publication of this notice to www.reginfo.gov/public/do/PRAMain. Find this particular information collection by selecting “Currently under Review—Open for Public Comments” or by using the search function.

FOR FURTHER INFORMATION CONTACT: FARPolicy@gsa.gov or call 202-969-4075.

SUPPLEMENTARY INFORMATION:

A. OMB Control Number, Title, and Any Associated Form(s)

9000-0184, Contractors Performing Private Security Functions Outside the United States.

B. Need and Uses

This clearance covers the information that contractors must submit to comply with the following Federal Acquisition Regulation (FAR) requirements:

FAR 52.225-26, Contractors Performing Private Security Functions Outside the United States. When contract performance is required outside the United States in an area of combat operations or significant military operations, this clause requires contractors to ensure employees performing private security functions under the contract comply with 32 CFR part 159, and any orders, directives, or instructions that are identified in the contract for:

• Registering, processing, accounting for, managing, overseeing, and keeping appropriate records of personnel performing private security functions;

• Requesting authorization of and accounting for weapons to be carried by or available to personnel performing private security functions;

• Registering and identifying armored vehicles, helicopters, and other military vehicles operated by employees performing private security functions; and

• Reporting incidents in which personnel performing private security functions: discharge a weapon; are attacked, killed, or injured; kill or injure a person or destroy property as a result of conduct by contractor personnel; have a weapon discharged against them or believe a weapon was so discharged; or employ active, non-lethal countermeasures in response to a perceived immediate threat.

The Government uses the information provided to ensure accountability, visibility, force protection, medical support, personnel recovery, and other related support can be accurately forecasted and provided to deployed contractors, as required.

C. Annual Burden

Respondents: 28.

Total Annual Responses: 140.

Total Burden Hours: 70.

D. Public Comment

A 60-day notice was published in the Federal Register at 90 FR 14448, on April 2, 2025. Several comments were received from four respondents; however, they did not change the estimate of the burden.

Comments on the Need and Utility of the Information Collection: Two respondents expressed support for the collection. A respondent stated that “the collection of data on private security contractors operating abroad remains necessary for accountability and human rights monitoring, but the utility can be significantly improved by requiring disaggregation of incident reports by location, contractor, and demographic details (e.g., gender, nationality, civilian vs. combatant status).”

Response: The respondents' input is appreciated. Any changes to the collection of information on contractors performing private security functions outside the US will require rulemaking.

Comment on the Burden Estimate: A respondent stated that “the estimate of 70 burden hours annually appears low given the complexity and seriousness of the required reporting on weapons discharge incidents, personnel injuries, and military vehicle registration.” The respondent recommended reassessing the burden estimate “using recent case studies of contractor reporting complexity in areas like Iraq and Afghanistan.”

Response: The information collection burden estimate covers only contractors of non-DoD agencies. The information is collected from DoD contractors under OMB Control Number 0704-0460, Synchronized Predeployment and Operational Tracker Enterprise Suite (SPOT-ES) System.

Comments on expanding reporting requirements: Two respondents provided many recommendations to improve accuracy, timeliness, oversight, accountability, and the transparency of the collected information. Key recommendations include clarifying the definitions of “significant military operations,” “security incidents,” and “use of force”; requiring readiness certifications for medical evacuation resources; increasing transparency through public incident reports; implementing post-contract reviews; incorporating third-party incident reporting and independent audits; mandating human rights and environmental impact reporting; collecting data on contractor workforce protections, gender, and diversity; and encouraging broader adoption of automated, secure digital reporting platforms.

Response: The respondents' input is appreciated. Any changes to the collection of information on contractors performing private security functions outside the US will require rulemaking.

Obtaining Copies: Requesters may obtain a copy of the information collection documents from the GSA Regulatory Secretariat Division, by calling 202-501-4755 or emailing GSARegSec@gsa.gov. Please cite OMB Control No. 9000-0184, Contractors Performing Private Security Functions Outside the United States.

Janet Fry,
Director, Federal Acquisition Policy Division, Office of Governmentwide Acquisition Policy, Office of Acquisition Policy, Office of Governmentwide Policy.

[FR Doc. 2025-12450 Filed 7-2-25; 8:45 am]

BILLING CODE 6820-EP-P